DEPARTMENT OF JUSTICE

Parole Commission

Sunshine Act Meeting

TIME AND DATE: 12:00 p.m., Tuesday, February 24, 2015.

PLACE: U.S. Parole Commission, 90 K Street NE., 3rd Floor, Washington, DC.

STATUS: Closed.

MATTERS TO BE CONSIDERED: Determination on five original jurisdiction cases.

CONTACT PERSON FOR MORE INFORMATION: Jacqueline Graham, Staff Assistant to the Chairman, U.S. Parole Commission, 90 K Street NE., 3rd Floor, Washington, DC 20530, (202) 346-7001.

Dated: February 18, 2015.
J. Patricia W. Smoot,
Acting Chairman, U.S. Parole Commission.

[FR Doc. 2015-03723 Filed 2-19-15; 4:15 pm]

BILLING CODE 4410-31-P